DEPARTMENT OF COMMERCE

International Trade Administration

[A-570-900]

Diamond Sawblades and Parts Thereof From the People's Republic of China: Preliminary Results of Antidumping Duty Administrative Review; 2012-2013

AGENCY: Enforcement and Compliance, International Trade Administration, Department of Commerce.

SUMMARY: The Department of Commerce (the Department) is conducting an administrative review of the antidumping duty order on diamond sawblades and parts thereof (diamond sawblades) from the People's Republic of China (the PRC). The period of review (POR) is November 1, 2012, through October 31, 2013. The Department has preliminarily determined that certain companies covered by this review made sales of subject merchandise at less than normal value. Interested parties are invited to comment on these preliminary results.

DATES: Effective Date: December 4, 2014.

FOR FURTHER INFORMATION CONTACT: Yang Jin Chun or Michael Romani, AD/CVD Operations, Office I, Enforcement and Compliance, International Trade Administration, U.S. Department of Commerce, 14th Street and Constitution Avenue NW., Washington, DC 20230; telephone: (202) 482-5760 and (202) 482-0198, respectively.

Scope of the Order

The merchandise subject to the order is diamond sawblades and parts thereof. The diamond sawblades subject to the order are currently classifiable under subheadings 8202 to 8206 of the Harmonized Tariff Schedule of the United States (HTSUS), and may also enter under 6804.21.00. While the HTSUS subheadings are provided for convenience and customs purposes, the written description is dispositive. A full description of the scope of the order is contained in the Preliminary Decision Memorandum.¹

¹ See the Memorandum from Deputy Assistant Secretary Christian Marsh to Acting Assistant Secretary Ronald K. Lorentzen entitled “Decision Memorandum for Preliminary Results of 2012-2013 Antidumping Duty Administrative Review: Diamond Sawblades and Parts Thereof from the People's Republic of China” dated concurrently with and hereby adopted by this notice (Preliminary Decision Memorandum).

Rescission of Review in Part

We are rescinding the review in part with respect to Husqvarna (Hebei) Co., Ltd., and Hebei Husqvarna-Jikai Diamond Tools Co., Ltd.²

² See Preliminary Decision Memorandum at 4-5 for more details on this rescission in part.

Preliminary Determination of No Shipments

Qingdao Shinhan Diamond Industrial Co., Ltd., which received a separate rate in previous segments of the proceeding and is subject to this review, reported that it did not have any exports of subject merchandise during the POR.³ U.S. Customs and Border Protection (CBP) data for the POR corroborated this company's no-shipment claim.⁴ Additionally, we requested that CBP report any contrary information.⁵ To date, CBP has not responded to our inquiry with any contrary information and we have not received any evidence that this company had any shipments of the subject merchandise sold to the United States during the POR.⁶ Consistent with the Department's refinement to its assessment practice in non-market economy (NME) cases regarding no shipment claims, we are completing the review with respect to this company and will issue appropriate instructions to CBP based on the final results of the review.⁷

³ See Qingdao Shinhan Diamond Industrial Co., Ltd.'s no shipment letter dated Febuary 28, 2014.

⁴ See the CBP data attached to the letter to all interested parties dated January 24, 2014.

⁵ See CBP message number 4261305 dated September 18, 2014.

⁶ CBP only responds to the Department's inquiry when there are records of shipments from the company in question. See, e.g., Certain Hot-Rolled Flat-Rolled Carbon Quality Steel Flat Products From Brazil: Notice of Rescission of Antidumping Duty Administrative Review, 75 FR 65453, 65454 (October 25, 2010).

⁷ See Non-Market Economy Antidumping Proceedings: Assessment of Antidumping Duties, 76 FR 65694 (October 24, 2011), and the “Assessment Rates” section below.

Methodology

The Department has conducted this review in accordance with section 751(a)(1)(B) of the Tariff Act of 1930, as amended (the Act). Export price and constructed export price have been calculated in accordance with section 772 of the Act. Because the PRC is a NME within the meaning of section 771(18) of the Act, normal value has been calculated in accordance with section 773(c) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and to all parties in the Central Records Unit, room 7046 of the main Department of Commerce building.⁸ In addition, a complete version of the Preliminary Decision Memorandum can be accessed directly on the Internet at http://enforcement.trade.gov/frn/index.html.

⁸ ACCESS is the new acronym for Enforcement and Compliance's Antidumping and Countervailing Duty Centralized Electronic Service System (IA ACCESS). We changed the Web site location from http://iaaccess.trade.gov to http://access.trade.gov. See 19 CFR 351.303, as amended in Enforcement and Compliance; Change of Electronic Filing System Name, 79 FR 69046 (November 20, 2014).

Preliminary Results of Review

The Department preliminarily determines that the following weighted-average dumping margins exist:

Exporter | Margin (percent)
Bosun Tools Co., Ltd | 11.21
Chengdu Huifeng Diamond Tools Co., Ltd | 7.87
Danyang City Ou Di Ma Tools Co., Ltd | 7.87
Danyang NYCL Tools Manufacturing Co., Ltd | 7.87
Danyang Tsunda Diamond Tools Co., Ltd | 7.87
Danyang Weiwang Tools Manufacturing Co., Ltd | 7.87
Guilin Tebon Superhard Material Co., Ltd | 7.87
Hangzhou Deer King Industrial and Trading Co., Ltd | 7.87
Hangzhou Kingburg Import & Export Co., Ltd | 7.87
Huzhou Gu's Import & Export Co., Ltd ⁹ | 7.87
Jiangsu Fengtai Diamond Tool Manufacture Co., Ltd | 7.87
Jiangsu Inter-China Group Corporation | 7.87
Jiangsu Youhe Tool Manufacturer Co., Ltd | 7.87
Pujiang Talent Diamond Tools Co., Ltd | 7.87
Qingdao Hyosung Diamond Tools Co., Ltd | 7.87
Qingyuan Shangtai Diamond Tools Co., Ltd | 7.87
Quanzhou Zhongzhi Diamond Tool Co. Ltd | 7.87
Rizhao Hein Saw Co., Ltd | 7.87
Saint-Gobain Abrasives (Shanghai) Co., Ltd | 7.87
Shanghai Jingquan Ind. Trade Co., Ltd | 7.87
Weihai Xiangguang Mechanical Industrial Co., Ltd | 3.79
Xiamen ZL Diamond Technology Co., Ltd ¹⁰ | 7.87
Zhejiang Wanli Tools Group Co., Ltd | 7.87
PRC-Wide Entity ¹¹ | 164.09

Disclosure and Public Comment

The Department will disclose calculations performed for these preliminary results to the parties within five days of the date of publication of this notice in accordance with 19 CFR 351.224(b). Pursuant to 19 CFR 351.309(c), interested parties may submit case briefs no later than 30 days after the date of publication of these preliminary results of review.¹² Parties who submit case briefs or rebuttal briefs in this proceeding are encouraged to submit with each argument: (1) A statement of the issue; (2) a brief summary of the argument; and (3) a table of authorities.¹³ Rebuttal briefs, limited to issues raised in the case briefs, may be filed no later than five days after the cases briefs are filed.

⁹ Huzhou Gu's Import & Export Co., Ltd., uses the name Huzhou Gu's Imp. & Exp. Co., Ltd., interchangeably. See Diamond Sawblades and Parts Thereof From the People's Republic of China: Preliminary Results of Antidumping Duty Administrative Review; 2011-2012, 78 FR 77098, 77100 n.14 (December 20, 2013) (3rd Review Prelim), unchanged in Diamond Sawblades and Parts Thereof From the People's Republic of China: Final Results of Antidumping Duty Administrative Review; 2011-2012, 79 FR 35723 (June 24, 2014) (3rd Review Final).

¹⁰ Xiamen ZL Diamond Technology Co., Ltd., stated in its separate rate application that its name before the POR was Xiamen ZL Diamond Tools Co., Ltd., for which we initiated this review in Initiation of Antidumping and Countervailing Duty Administrative Reviews and Request for Revocation in Part, 78 FR 79392, 79395 (December 30, 2013). See Xiamen ZL Diamond Technology Co., Ltd.'s February 26, 2014, separate rate application at 2.

¹¹ The PRC-wide entity includes the following companies: ATM Single Entity, Central Iron and Steel Research Institute Group, China Iron and Steel Research Institute Group, Danyang Aurui Hardware Products Co., Ltd., Danyang Dida Diamond Tools Manufacturing Co., Ltd., Danyang Huachang Diamond Tools Manufacturing Co., Ltd., Electrolux Construction Products (Xiamen) Co. Ltd., Fujian Quanzhou Wanlong Stone Co., Ltd., Hebei Jikai Industrial Group Co., Ltd., Huachang Diamond Tools Manufacturing Co., Ltd., Hua Da Superabrasive Tools Technology Co., Ltd., Jiangsu Fengyu Tools Co., Ltd., Jiangyin Likn Industry Co., Ltd., Protech Diamond Tools, Quanzhou Shuangyang Diamond Tools Co., Ltd., Quanzhou Zongzhi Diamond Tool Co. Ltd., Shanghai Deda Industry & Trading Co., Ltd., Shanghai Robtol Tool Manufacturing Co., Ltd., Shanghai Starcraft Tools Company Limited, Shijiazhuang Global New Century Tools Co., Ltd., Sichuan Huili Tools Co., Task Tools & Abrasives, Wanli Tools Group, Wuhan Wanbang Laser Diamond Tools Co., Wuxi Lianhua Superhard Material Tools Co., Ltd., Zhejiang Tea Import & Export Co., Ltd., Zhejiang Wanda Import and Export Co., Zhejiang Wanda Tools Group Corp., and Zhejiang Wanli Super-hard Materials Co., Ltd. ATM Single Entity includes Advanced Technology & Materials Co., Ltd., Beijing Gang Yan Diamond Products Co., Yichang HXF Circular Saw Industrial Co., Ltd. (currently HXF Saw Co., Ltd.) (HXF), Cliff (Tianjin) International Ltd (Cliff), and AT&M International Trading Co., Ltd. Cliff also used the company name Cliff International Ltd. See 3rd Review Prelim, 78 FR at 77099, n.4, and the accompanying Preliminary Decision Memorandum at 5, n.24, unchanged in 3rd Review Final for HXF's name change and Cliff's use of another company name.

¹² See 19 CFR 351.309(c).

¹³ See 19 CFR 351.309(c)(2).

Interested parties who wish to request a hearing, or to participate if one is requested, must submit a written request to the Assistant Secretary for Enforcement and Compliance, U.S. Department of Commerce, filed electronically using ACCESS. An electronically filed document must be received successfully in its entirety by the Department's ACCESS by 5:00 p.m. Eastern Time within 30 days after the date of publication of this notice.¹⁴ Hearing requests should contain (1) the party's name, address, and telephone number; (2) the number of participants; and (3) a list of issues to be discussed. Issues raised in the hearing will be limited to those raised in the respective case briefs. The Department intends to issue the final results of this review, including the results of its analysis of issues raised by parties in their comments, within 120 days after the publication of these preliminary results, pursuant to section 751(a)(3)(A) of the Act and 19 CFR 351.213(h)(2).

¹⁴ See 19 CFR 351.310(c).

Assessment Rates

Upon issuing the final results of review, the Department will determine, and CBP shall assess, antidumping duties on all appropriate entries covered by this review.¹⁵ If a respondent's weighted-average dumping margin is above de minimis (i.e., 0.5 percent) in the final results of this review, we will calculate an importer-specific assessment rate on the basis of the ratio of the total amount of dumping calculated for the importer's examined sales and the total entered value of those sales in accordance with 19 CFR 351.212(b)(1). Specifically, the Department will apply the assessment rate calculation method adopted in Final Modification for Reviews.¹⁶ Where an importer- (or customer-) specific ad valorem rate is zero or de minimis, we will instruct CBP to liquidate appropriate entries without regard to antidumping duties.¹⁷

¹⁵ See 19 CFR 351.212(b)(1).

¹⁶ See Antidumping Proceeding: Calculation of the Weighted-Average Dumping Margin and Assessment Rate in Certain Antidumping Duty Proceedings; Final Modification, 77 FR 8103 (February 14, 2012) (Final Modification for Reviews).

¹⁷ See 19 CFR 351.106(c)(2).

For Husqvarna (Hebei) Co., Ltd., for which the review is rescinded, the antidumping duty shall be assessed at the rate equal to the cash deposit of the estimated antidumping duty required at the time of entry, or withdrawal from warehouse, for consumption, in accordance with 19 CFR 351.212(c)(2). We will instruct CBP accordingly.

Pursuant to a refinement to the Department's assessment practice in NME cases,¹⁸ for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.¹⁹ The Department intends to issue appropriate assessment instructions directly to CBP 15 days after publication of the final results of review.

¹⁸ For a full discussion of this practice, see Non-Market Economy Antidumping Proceedings: Assessment of Antidumping Duties, 76 FR 65694 (October 24, 2011).

¹⁹ Id.

Cash Deposit Requirements

The following cash deposit requirements will be effective upon publication of the final results of this administrative review for shipments of the subject merchandise from the PRC entered, or withdrawn from warehouse, for consumption on or after the publication date, as provided by section 751(a)(2)(C) of the Act: (1) For subject merchandise exported by the companies listed above that have separate rates, the cash deposit rate will be that established in the final results of review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: November 26, 2014.
Ronald K. Lorentzen,
Acting Assistant Secretary for Enforcement and Compliance.

Appendix

List of Topics Discussed in the Preliminary Decision Memorandum

A. Summary

B. Background

C. Scope of the Order

D. Request To Modify the Physical Characteristics

E. Rescission of Review in Part

F. Preliminary Determination of No Shipments

G. Discussion of the Methodology

1. Non-Market Economy Country Status

2. Separate Rates

3. Surrogate Country

H. Fair Value Comparisons

1. Determination of Comparison Method

2. Results of the Differential Pricing Analysis

3. U.S. Price

4. Normal Value

5. Factor Valuations

I. Currency Conversion

J. Recommendation

[FR Doc. 2014-28531 Filed 12-3-14; 8:45 am]

BILLING CODE 3510-DS-P